DEPARTMENT OF ENERGY

Agency Information Collection

AGENCY: U.S. Department of Energy.

ACTION: Notice and request for comments.

SUMMARY: The Department of Energy (DOE), pursuant to the Paperwork Reduction Act of 1995), intends to propose an information collection package with the Office of Management and Budget (OMB) concerning the Work Authorization System, as prescribed in DOE O 412. 1A, in order to authorize and control work performed by designated Management and Operating (M&O) contractors and other contractors as determined by the senior procurement executive, consistent with the budget execution and program evaluation requirements of the DOE Planning, Programming, Budget, and Evaluation process. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

DATES: Comments regarding this proposed information collection must be received on or before November 27, 2006. If you anticipate difficulty in submitting comments within that period, contact the person listed below as soon as possible.

ADDRESSES: Written comments may be sent to:

Sandra Cover, U.S. Department of Energy, 1000 Independence Ave. SW., MA-61, Washington, DC 20585, or by fax at (202) 287-1345 or by e-mail at Sandra.Cover@hq.doe.gov and to:

Jeffrey Martus, IM-11/Germantown Building, U.S. Department of Energy, 1000 Independence Ave SW., Washington, DC 20585, or by fax at 301-903-9061 or by e-mail at jeffrey.martus@hq.doe.gov.

FOR FURTHER INFORMATION CONTACT: Requests for additional information or copies of the information collection instrument and instructions should be directed to Jeffrey Martus at the address listed above in ADDRESSES.

SUPPLEMENTARY INFORMATION: This package contains: (1) OMB No. {enter current number} (2) Package Title: Work Authorization; (3) Type of Review: New; (4) Purpose: This information is required by the Department to ensure that programmatic and administrative management requirements and resources are managed efficiently and effectively; (5) Respondents: 33; (6) Estimated Number of Burden Hours: 528 hours; Statutory Authority: Sec. 3506 (c)(2)(A) of the Paperwork Reduction Act of 1995 (Pub. L. 104-13).

Issued in Washington, DC.
Jeffrey Martus,
Records Management Division, Office of the Chief Information Officer.

[FR Doc. E6-15721 Filed 9-25-06; 8:45 am]

BILLING CODE 6450-01-P